SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA), which requires agencies to submit proposed reporting and recordkeeping requirements to OMB for review and approval, and to publish a notice in the Federal Register notifying the public that the agency has made such a submission. This notice also allows for an additional 30 days for public comments.

DATES: Submit comments on or before November 22, 2017.

ADDRESSES: Comments should refer to the information collection by name and/or OMB Control Number and should be sent to: Management Analyst, Curtis B. Rich, Small Business Administration, 409 3rd Street SW., 5th Floor, Washington, DC 20416; and SBA Desk Officer, Office of Information and Regulatory Affairs, Office of Management and Budget, New Executive Office Building, Washington, DC 20503.

FOR FURTHER INFORMATION CONTACT: Annie Rorem, Senior Research Manager, National Women's Business Council, annie.rorem@nwbc.gov, 202-205-6829 or Curtis B. Rich, Management Analyst, curtis.rich@sba.gov, 202-205-7030.

Copies: A copy of the Form OMB 83-1, supporting statement, and other Documents submitted to OMB for review may be obtained from the Agency Clearance Officer.

SUPPLEMENTARY INFORMATION: NWBC is a non-partisan federal advisory council created to serve as an independent source of advice and counsel to the President, Congress, and the U.S. Small Business Administration (SBA) on economic issues of importance to women business owners. The Council's mission is to promote initiatives, policies, and programs designed to support women's business enterprises at all stages of development in the public and private sector marketplaces—from start-up to success. NWBC is charged with providing sound policy advice related to its mission by statutory authority 15 U.S.C. 7105 and 15 U.S.C. 7109a, with conducting “such studies and other research relating to the award of federal prime contracts and subcontracts to women-owned businesses, to access to credit and investment capital by women entrepreneurs, or to other issues relating to women-owned businesses, as the Council determines to be appropriate.”

As part of its efforts, NWBC seeks to complement data resources available from the Census Bureau's Survey of Small Business Owners and Self-Employed Persons (SBO). Although the SBO is widely recognized as the most comprehensive, regularly collected source of information on selected economic and demographic characteristics for businesses and business owners by gender, ethnicity, race, and veteran status, the proposed NWBC information collection will add to the available data, in terms of both methodology and timeliness. A new annual Web survey, which will collect information across a representative sample of business owners, including both women and men, will enhance information gathering on factors such as challenges to business start-up and growth, motivation, and economic impacts related to women entrepreneurship in the United States. This survey will also provide a comprehensive review of business ownership, including business owners' characteristics, types of businesses and economic impact.

Summary of Information Collections

Title: National Women's Business Council Survey Development on Women-Owned and Led Businesses.

Description of Respondents: Owners of privately-held small businesses.

Total Estimated Annual Responses: 12,131.

Total Estimated Annual Hour Burden: 1,348.

Curtis B. Rich,
Management Analyst.

[FR Doc. 2017-22803 Filed 10-20-17; 8:45 am]

BILLING CODE 8025-01-P